DEPARTMENT OF COMMERCE

Census Bureau

E-Government Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 26, 2002.

ADDRESSES: Direct all written comments to Madeleine Clayton, Departmental Paperwork Clearance Officer, Department of Commerce, Room 6086, 14th and Constitution Avenue, NW., Washington, DC 20230 (or via the Internet at MClayton@doc.gov).

FOR FURTHER INFORMATION CONTACT: Requests for additional information or copies of the information collection instrument(s) and instructions should be directed to Stephen Poyta, Chief, Census Management Staff, Governments Division, U.S. Census Bureau, Washington, DC 20233-6800 (301-457-1580).

SUPPLEMENTARY INFORMATION:

I. Abstract

Title 13, section 182, of the United States Code authorizes the Secretary of Commerce to conduct surveys deemed necessary to furnish annual and other interim current data on the subjects covered by the Census of Governments.

The recent development of public services dubbed “Electronic Government,” or “E-Government,” is a result of the rapid growth of computer access and the Internet. The emergence of electronic technologies has fueled a significant change in the public sector's manner in conducting its business. Current measures of public activity—established in a period before computers—do not provide gauges of this new and important change. The public sector is a major component of the economy, as both a purchaser and deliverer of goods and services. It is important that our Nation measure this development because the potential effects of this new technology include the promise of greater efficiencies in the delivery of public services, more effective communications between the public and its government, and a wider scope of public services available to more people.

The Census Bureau plans to conduct a survey of state governments in order to begin measuring the scope and effects of this new activity. The survey's broad definition of E-Government includes any government process conducted on-line, employing computer enabled electronic devices. Title 13, section 182, of the United States Code authorizes the Secretary of Commerce to conduct surveys deemed necessary to furnish annual and other interim current data on the subjects covered by the Census of Governments. This survey concentrates on three different measurable parts of total Information Technology (IT) and E-Government:

(1) Infrastructure—the costs to governments of providing electronic hardware and software that form the backbone of E-Government, and the personnel and organizational supports for total IT and E-Government;

(2) Processes—the E-Government interactions of citizens, businesses, and other governments with their governments; and

(3) Transactions—measurements for these E-Government processes.

The Census Bureau, as the premier national data collection agency, is uniquely situated to measure E-Government. The current Census Bureau measures of public sector economic activity—used by Federal data analysis agencies such as the Bureau of Economic Analysis and the Federal Reserve Board—provide an important basis for making informed policy decisions. The addition of E-Government information will help governmental leaders at all levels formulate policies that will improve our entire governmental system. Other users of these data will be the State and local governments and related organizations, public interest groups, the academic community, and many business, market and private research organizations.

II. Method of Collection

Basic questionnaires will be sent to the primary technology offices within each state, with additional forms, designed for specific types of departments, agencies, and offices, etc., also incorporated. Information from state governments and the District of Columbia will be compiled by office staff from questionnaire responses collected via standard mail and the Internet.

The Census Bureau will also research the feasibility of developing cooperative data sharing and central collection arrangements with the state governments to minimize respondent burden.

Electronic data collection and dissemination will be developed and incorporated.

OMB Number: None.

Form Number: None.

Type of Review: Regular.

Affected Public: State governments.

Estimated Number of Respondents: 765 (15 agencies per State government).

Estimated Time Per Response: 6 hours.

Estimated Total Annual Burden Hours: 4,590 hours.

Estimated Total Annual Cost: $82,436.40 ($17.96 per hour*).

* Based upon the 2000 Annual Employment Survey—Average hourly rate for state full-time equivalent employees in financial administration.

Respondent's Obligation: Voluntary.

Legal Authority: Title 13 United States Code, Section 182.

III. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 20, 2001.
Madeleine Clayton,
Departmental Paperwork Clearance Officer, Office of the Chief Information Officer.

[FR Doc. 01-31857 Filed 12-27-01; 8:45 am]

BILLING CODE 3510-07-P